DEPARTMENT OF COMMERCE

International Trade Administration

[A-201-845]

Sugar From Mexico: Final Results of the Expedited Second Sunset Review of the Agreement Suspending the Antidumping Duty Investigation

AGENCY: Enforcement and Compliance, International Trade Administration, Department of Commerce.

SUMMARY: As a result of this sunset review, the U.S. Department of Commerce (Commerce) finds that termination of the Agreement Suspending the Antidumping Duty Investigation on Sugar from Mexico, as amended (Agreement), and the suspended antidumping duty (AD) investigation would be likely to lead to continuation or recurrence of dumping at the levels indicated in the “Final Results of Review” section of this notice.

DATES: Applicable July 8, 2025.

FOR FURTHER INFORMATION CONTACT: Sally C. Gannon or Samantha Fino, Enforcement and Compliance, International Trade Administration, U.S. Department of Commerce, 1401 Constitution Avenue NW, Washington, DC 20230; telephone: (202) 482-0162 or (202) 482-2861, respectively.

SUPPLEMENTARY INFORMATION:

Background

On March 3, 2025, Commerce initiated the second sunset review of the Agreement ¹ and the suspended AD investigation on sugar from Mexico, pursuant to section 751(c) of the Tariff Act of 1930, as amended (the Act).² On March 17, 2025, Commerce received a notice of intent to participate in this sunset review from the American Sugar Coalition and its members (the petitioners),³ within the applicable deadline specified in 19 CFR 351.218(d)(1)(i).⁴ Commerce received a complete substantive response from the petitioners within the 30-day deadline specified in 19 CFR 351.218(d)(3)(i).⁵ Commerce did not receive an adequate substantive response from any respondent interested party, nor was a hearing requested. As a result, Commerce conducted an expedited (120-day) sunset review, in accordance with 19 CFR 351.218(e)(1)(ii)(C)(2).

¹ See Sugar from Mexico: Suspension of Antidumping Duty Investigation, 79 FR 78039 (December 29, 2019); and Sugar from Mexico: Amendment to the Agreement Suspending the Antidumping Duty Investigation, 85 FR 3620 (January 22, 2020) (collectively, Agreement).

² See Initiation of Five-Year (Sunset) Reviews, 90 FR 11039 (March 3, 2025).

³ The members of the American Sugar Coalition are as follows: American Sugar Cane League, American Sugarbeet Growers Association, American Sugar Refining, Inc., Florida Sugar Cane League, Sugar Cane Growers Cooperative of Florida, and the United States Beet Sugar Association.

⁴ See Petitioners' Letter, “Sugar from Mexico: Notice of Intent to Participate”, dated March 17, 2025.

⁵ See Petitioners' Letter, “Sugar from Mexico: Substantive Response to Notice of Initiation of Five-Year (Sunset) Reviews of the Antidumping and Countervailing Duty Suspension Agreements,” dated April 2, 2025.

Scope of the Agreement ⁶

⁶ See Agreement at Section I.

The merchandise subject to the Agreement is raw and refined sugar of all polarimeter readings derived from sugar cane or sugar beets. For a complete description of the merchandise subject to the Agreement, see the Issues and Decision Memorandum.⁷

⁷ See Memorandum, “Issues and Decision Memorandum for the Final Results of the Second Sunset Review of the Agreement Suspending the Antidumping Duty Investigation of Sugar from Mexico,” dated concurrently with, and hereby adopted by, this notice (Issues and Decision Memorandum).

Analysis of Comments Received

All issues raised in this sunset review, including the likelihood of continuation or recurrence of dumping and the magnitude of the margin of dumping likely to prevail if the Agreement and suspended AD investigation were terminated, are addressed in the Issues and Decision Memorandum. The Issues and Decision Memorandum is a public document and is on file electronically via Enforcement and Compliance's Antidumping and Countervailing Duty Centralized Electronic Service System (ACCESS). ACCESS is available to registered users at https://access.trade.gov. A list of topics discussed in the Issues and Decision Memorandum is included as an appendix to this notice. A complete version of the Issues and Decision Memorandum can be accessed directly at https://access.trade.gov/public/FRNoticesListLayout.aspx.

Final Results of Sunset Review

Pursuant to sections 751(c)(1) and 752(c)(1) and (3) of the Act, we determine that termination of the Agreement and suspended AD investigation on sugar from Mexico is likely to lead to the continuation or recurrence of dumping, and that the magnitude of the dumping margins likely to prevail would be weighted-average dumping margins up to 42.14.⁸

⁸ See Sugar from Mexico: Final Determination of Sales at Less than Fair Value, 80 FR 57341 (September 23, 2015).

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

Commerce is issuing and publishing these final results and notice in accordance with sections 751(c), 752(c), and 777(i)(1) of the Act, and 19 CFR 351.218(e)(1)(ii)(C)(2) and 19 CFR 351.221(c)(5)(ii).

Dated: July 1, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Agreement

IV. History of the Proceeding

V. Legal Framework

VI. Discussion of the Issues

1. Likelihood of Continuation or Recurrence of Dumping

2. Magnitude of the Margin Likely to Prevail

VII. Final Results of the Expedited Review

VIII. Recommendation

[FR Doc. 2025-12634 Filed 7-7-25; 8:45 am]

BILLING CODE 3510-DS-P